FEDERAL COMMUNICATIONS COMMISSION

47 CFR Part 1

[WT Docket No. 05-211; DA 06-1280]

Commercial Spectrum Enhancement Act and Modernization of the Commission's Competitive Bidding Rules and Procedures

AGENCY: Federal Communications Commission.

ACTION: Final rule; correction.

SUMMARY: The Federal Communications Commission published in the Federal Register of May 4, 2006, a document that included new or modified information collections. This document corrects the ordering clause in paragraph 52.

DATES: Effective June 16, 2006.

FOR FURTHER INFORMATION CONTACT: Brian Carter, Auction and Spectrum Access Division, Wireless Telecommunications Bureau at (202) 418-0660.

SUPPLEMENTARY INFORMATION: This is a summary of the Erratum and Notice of Office of Management and Budget Approval of Information Collections released on June 16, 2006. The complete text of the Erratum and Notice of Office of Management and Budget Approval of Information Collections and related Commission documents, is available for public inspection and copying from 8 a.m. to 4:30 p.m. Monday through Thursday or from 8 a.m. to 11:30 a.m. on Friday at the FCC Reference Information Center, Portals II, 445 12th Street, SW., Room CY-A257, Washington, DC 20554. The Erratum and Notice of Office of Management and Budget Approval of Information Collections and related Commission documents may also be purchased from the Commission's duplicating contractor, Best Copy and Printing, Inc. (BCPI), Portals II, 445 12th Street, SW., Room CY-B402, Washington, DC 20554, telephone 202-488-5300, facsimile 202-488-5563, or you may contact BCPI at its Web site: http://www.BCPIWEB.com.

On April 25, 2006, the Federal Communications Commission (Commission) released a Second Report and Order and Second Further Notice of Proposed Rule Making (Designated Entity Second Report and Order), 71 FR 26245, May 4, 2006. The Designated Entity Second Report and Order included new or modified information collections. The Erratum and Notice of Office of Management and Budget Approval of Information Collections (Erratum) corrects paragraph 103 of the Designated Entity Second Report and Order, which appeared as paragraph 52 in the Federal Register of May 4, 2006. The Commission may conduct the information collections required by §§ 1.2105(a)(2)(ii)(B), 1.2110(b)(1)(i) and (ii), and 1.2112(b)(1)(iii) and (iv), as amended by the Designated Entity Second Report and Order consistent with the Paperwork Reduction Act of 1995. See Public Information Collection Approved by Office of Management and Budget, 71 FR 34935, June 16, 2006.

In FR Doc. 06-4257 published on May 4, 2006, (71 FR 26245) make the following corrections. On page 26250, in the third column, paragraph 52 is corrected to read as follows:

Accordingly, it is ordered, that, pursuant to sections 4(i), 303(r), and 309(j) of the Communications Act of 1934, as amended, 47 U.S.C. 154(i), 303(r), and 309(j), the Second Report and Order is hereby adopted and Part 1 of the Commission's rules, 47 CFR Part 1, is amended as set forth in Appendix B, effective 30 days after publication in the Federal Register, except for the grandfathering provisions, which are effective upon release. The Commission will not conduct or sponsor any new or modified information collections required pursuant to Sections 1.913(a)(6); 1.913(b); 1.919(b)(5); 1.2105(a)(2)(ii)(B); 1.2110(b)(1)(i) and (ii); 1.2110(j) and (n); 1.2111(a), (b), and (c)(2) and (3); 1.2112(b)(1)(iii) and (iv), and (2)(iii), (v) and (vii); and 1.2114(b), (f), and (g) of the amended rules adopted herein until approval by the Office of Management and Budget (OMB) has been obtained under the Paperwork Reduction Act of 1995, Pub. L. 104-13. The Commission will publish notice in the Federal Register announcing such OMB approval.

Federal Communications Commission.
Gary D. Michaels,
Deputy Chief, Auctions and Spectrum Access Division, WTB.

[FR Doc. E6-11050 Filed 7-12-06; 8:45 am]

BILLING CODE 6712-01-P